DEPARTMENT OF TRANSPORTATION

Federal Aviation Administration

Agency Information Collection Activities: Requests for Comments; Clearance of Renewed Approval of Information Collection: Procedures for Non-Federal Navigation Facilities

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on November 22, 2011, vol. 76, no. 225, page 72238. Non-Federal navigation facilities are electrical/electronic aids to air navigation which are purchased, installed, operated, and maintained by an entity other than the FAA and are available for use by the flying public.

DATES: Written comments should be submitted by February 27, 2012.

FOR FURTHER INFORMATION CONTACT: Kathy DePaepe at (405) 954-9362, or by email at: Kathy.A.DePaepe@faa.gov.

SUPPLEMENTARY INFORMATION:

OMB Control Number: 2120-0014 .

Title: Procedures for Non-Federal Navigation Facilities.

Form Numbers: FAA Forms 6030-1, 6030-17, 6790-4, 6790-5.

Type of Review: Renewal of an information collection.

Background: FAR Part 171 establishes procedures and requirements for sponsors, both private and public other than FAA, to purchase, install, operate, and maintain electronic navaids for use by the flying public in the National Airspace System (NAS). FAR Part 171 describes procedures for receiving permission to install a facility and requirements to be fulfilled to keep it in service. These requirements include inspection and periodic maintenance. These tasks and any other repair work done to these facilities is recorded in on-site logs, copies of which are sent to the Service Center office.

Respondents: Approximately 2,413 sponsors of non-federal navigation facilities.

Frequency: Information is collected on occasion.

Estimated Average Burden per Response: 13.72 hours.

Estimated Total Annual Burden: 33,116 hours.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW., Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC on January 19, 2012.
Albert R. Spence,
FAA Assistant Information Collection Clearance Officer, IT Enterprises Business Services Division, AES-200.

[FR Doc. 2012-1845 Filed 1-26-12; 8:45 am]

BILLING CODE 4910-13-P